DEPARTMENT OF ENERGY

Federal Energy Regulatory Commission

[Project No. 15000-003]

Erie Boulevard Hydropower, L.P.; Notice of Settlement Agreement and Soliciting Comments

Take notice that the following settlement agreement has been filed with the Commission and is available for public inspection.

a. Type of Application: Settlement Agreement.

b. Project No.: 15000-003.

c. Date Filed: August 9, 2024.

d. Applicant: Erie Boulevard Hydropower, L.P. (Erie).

e. Name of Project: Franklin Falls Hydroelectric Project (project).

f. Location: The existing project is located on the Saranac River, in Essex and Franklin counties, New York.

g. Filed Pursuant to: Rule 602 of the Commission's Rules of Practice and Procedure, 18 CFR 385.602.

h. Applicant Contact: Steven Murphy, Director, U.S. Licensing, Erie Boulevard Hydropower, L.P., 33 West 1st Street South, Fulton, New York 13069; telephone at (315) 598-6130; email at steven.murphy@brookfieldrenewable.com.

i. FERC Contact: Joshua Dub, Project Coordinator, Great Lakes Branch, Division of Hydropower Licensing; telephone at (202) 502-8138; email at Joshua.Dub@FERC.gov.

j. Deadline for filing comments: September 13, 2024. Reply comments due: September 28, 2024.

The Commission strongly encourages electronic filing. Please file comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, MD 20852. All filings must clearly identify the project name and docket number on the first page: Franklin Falls Hydroelectric Project (P-15000-003).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Erie filed a Settlement Agreement for the project's relicense proceeding, on behalf of itself, the U.S. Fish and Wildlife Service, the New York State Department of Environmental Conservation, and New York Trout Unlimited. The purpose of the Settlement Agreement is to resolve, among the signatories, relicensing issues related to project operation, water quality, fisheries, wildlife, and recreation. The Settlement Agreement includes proposed protection, mitigation, and enhancement measures to address: (1) modified run-of-river operation; (2) impoundment surface elevations; (3) minimum bypassed reach and downstream flows; (4) operation compliance and monitoring; (5) impoundment drawdowns; (6) fish exclusion and conveyance; (7) project recreation; (8) bald eagle protection; and (9) invasive species management. Erie requests that any new license issued by the commission for the project contain conditions consistent with the provisions of the Settlement Agreement and within the scope of its regulatory authority.

l. A copy of the Settlement Agreement is available for review on the Commission's website at http://www.ferc.gov using the “eLibrary” link. Enter the docket number, excluding the last three digits in the docket number field, to access the document (i.e., P-15000). For assistance, contact FERC at FERCOnlineSupport@ferc.gov or call toll free, (886) 208-3676 or TTY (202) 502-8659.

You may also register online at https://www.ferc.gov/ferc-online/overview to be notified via email of new filings and issuances related to this or other pending projects. For assistance, contact FERC Online Support.

m. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 14, 2024.
Debbie-Anne A. Reese,
Acting Secretary.

[FR Doc. 2024-18643 Filed 8-19-24; 8:45 am]

BILLING CODE 6717-01-P